OFFICE OF PERSONNEL MANAGEMENT

Excepted Service

AGENCY: U.S. Office of Personnel Management (OPM).

ACTION: Notice.

SUMMARY: This notice identifies Schedule A, B, and C appointing authorities applicable to a single agency that were established or revoked from January 1, 2014 to January 31, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during January 2014.

Schedule B

No Schedule B authorities to report during January 2014.

Schedule C

The following Schedule C appointing authorities were approved during January 2014.

Agency name | Organization name | Position title | Authorization No. | Effective date
Department of Agriculture | Foreign Agricultural Service | Confidential Assistant | DA140023 | 1/13/2014
| Farm Service Agency | State Executive Director | DA140024 | 1/13/2014
| Office of Under Secretary for Natural Resources and Environment | Special Assistant | DA140025 | 1/13/2014
Department of Commerce | Office of the Under Secretary | Senior Advisor | DC140021 | 1/3/2014
|  | Special Assistant | DC140049 | 1/30/2014
| Office of Public Affairs | Deputy Director of Public Affairs | DC140023 | 1/9/2014
| Office of Assistant Secretary for Legislative and Intergovernmental Affairs | Associate Director of Legislative Affairs | DC140024 | 1/9/2014
| Office of the Chief of Staff | Confidential Assistant | DC140031 | 1/14/2014
Commodity Futures Trading Commission | Office of the Chairperson | Executive Assistant | CT140002 | 1/16/2014
Department of Defense | Washington Headquarters Services | Defense Fellow | DD140019 | 1/13/2014
Department of Energy | National Nuclear Security Administration | Deputy Press Secretary | DE140022 | 1/15/2014
Federal Housing Finance Agency | Office of the Director | Executive Advisor/Chief of Staff | HA140001 | 1/7/2014
|  | Special Advisor on Strategic Decisions and Governmental Agency Relations | HA140002 | 1/13/2014
|  | Special Advisor on Strategic Decisions and Industry Relations | HA140004 | 1/13/2014
Federal Trade Commission | Office of the Chairman | Director, Office of Public Affairs | FT140005 | 1/13/2014
General Services Administration | Mid-Atlantic Region | Special Assistant | GS140005 | 1/14/2014
Department of Health and Human Services | Office of Intergovernmental and External Affairs | Special Assistant | DH140017 | 1/2/2014
| Office of the Assistant Secretary for Health | Special Assistant | DH140020 | 1/10/2014
| Office of the Secretary | Special Assistant | DH140019 | 1/24/2014
Department of Homeland Security | Office of the Chief of Staff | Deputy White House Liaison | DM140031 | 1/8/2014
| Office of the Under Secretary for National Protection and Programs Directorate | Confidential Assistant | DM140032 | 1/23/2014
| Office of the Assistant Secretary for Public Affairs | Strategic Communications Liaison | DM140027 | 1/27/2014
| Office of the Under Secretary for Intelligence and Analysis | Special Advisor | DM140043 | 1/27/2014
Department of the Interior | Bureau of Land Management | Advisor | DI140012 | 1/24/2014
| Bureau of Ocean Energy Management | Advisor | DI140015 | 1/30/2014
Department of Justice | Office on Violence Against Women | Program Specialist | DJ140020 | 1/10/2014
| Office of Public Affairs | Deputy Director | DJ140023 | 1/23/2014
Department of Labor | Office of Congressional and Intergovernmental Affairs | Senior Legislative Officer | DL140013 | 1/14/2014
National Aeronautics and Space Administration | Office of Communications | Special Assistant | NN140012 | 1/16/2014
National Transportation Safety Board | Office of Board Members | Special Assistant | TB140001 | 1/16/2014
Office of the United States Trade Representative | Office of the United States Trade Representative | Deputy Assistant United States Trade Representative for Public and Media Affairs | TN140002 | 1/9/2014
Small Business Administration | Office of Congressional and Legislative Affairs | Deputy Assistant Administrator for Congressional and Legislative Affairs | SB140006 | 1/9/2014
| Office of the General Counsel | Deputy General Counsel | SB140007 | 1/31/2014
Department of State | Office of the Global Women's Issues | Staff Assistant | DS140023 | 1/15/2014
| Office of the Secretary | Senior Advisor | DS140022 | 1/16/2014
|  | Staff Assistant | DS140016 | 1/24/2014
| Bureau of East Asian and Pacific Affairs | Staff Assistant | DS140025 | 1/16/2014
| Bureau for Education and Cultural Affairs | Special Assistant | DS140012 | 1/17/2014
| Bureau of Western Hemisphere Affairs | Deputy Assistant Secretary | DS140027 | 1/17/2014
| Bureau of Economic and Business Affairs | Staff Assistant | DS140053 | 1/29/2014
Department of Transportation | Assistant Secretary for Governmental Affairs | Director of Governmental Affairs | DT140012 | 1/9/2014
| Office of the Secretary | Associate Director for Scheduling and Advance (2) | DT140013 DT140014 | 1/9/2014 1/9/2014
| Assistant Secretary for Transportation Policy | Senior Policy Advisor | DT140015 | 1/13/2014
| Secretary | Special Assistant for Scheduling and Advance | DT140016 | 1/24/2014
Department of the Treasury | Secretary of the Treasury | Deputy Executive Secretary | DY140030 | 1/9/2014
|  | Deputy White House Liaison | DY140032 | 1/22/2014
| Assistant Secretary (Economic Policy) | Special Assistant | DY140033 | 1/22/2014

The following Schedule C appointing authorities were revoked during January 2014.

Agency | Organization | Position title | Authorization No. | Vacate date
Department of Agriculture | Farm Service Agency | State Executive Director—Louisiana | DA130208 | 1/3/2014
|  | Special Assistant | DA120008 | 1/12/2014
Department of Commerce | Office of the Deputy Secretary | Special Advisor | DC120035 | 1/6/2014
| Office of the Assistant Secretary for Industry and Analysis | Senior Advisor | DC120157 | 1/7/2014
| Office of the Chief of Staff | Confidential Assistant | DC120152 | 1/14/2014
Department of Education | Office of the Deputy Secretary | Confidential Assistant | DB100023 | 1/6/2014
| Office for Civil Rights | Confidential Assistant | DB120030 | 1/8/2014
Department of Health and Human Services | Office of the Assistant Secretary for Health | Confidential Assistant | DH120132 | 1/11/2014
Department of Homeland Security | Office of the Under Secretary for National Protection and Programs Directorate | Confidential Assistant | DM120123 | 1/10/2014
| Office of the Chief of Staff | Deputy White House Liaison | DM120075 | 1/11/2014
Department of Housing and Urban Development | Office of the Secretary | Financial Analyst for Housing Finance | DU120025 | 1/10/2014
| Office of Housing | Program Analyst | DU110033 | 1/25/2014
Department of Justice | Office on Violence Against Women | Special Assistant | DJ120030 | 1/11/2014
Department of Labor | Office of Congressional and Intergovernmental Affairs | Senior Legislative Officer | DL130014 | 1/10/2014
Department of the Interior | Office of the Deputy Secretary | Counselor to the Deputy Secretary | DI120035 | 1/21/2014
Department of Transportation | Secretary | Special Assistant for Scheduling and Advance | DT120066 | 1/11/2014
|  | Scheduler | DT130033 | 1/11/2014
| Assistant Secretary for Transportation Policy | Associate Director for Transportation Policy | DT120024 | 1/25/2014
Export-Import Bank | Office of Communications | Senior Advisor | EB110007 | 1/23/2014
National Endowment for the Arts | National Endowment for the Arts | Congressional Liaison | NA090003 | 1/4/2014
National Transportation Safety Board | Office of Board Members | Special Assistant | TB100002 | 1/3/2014
Office of the Secretary of Defense | Washington Headquarters Services | Defense Fellow | DD130080 | 1/25/2014

Authority: 5 U.S.C. 3301 and 3302; E.O. 10577, 3 CFR, 1954-1958 Comp., p. 218.

U.S. Office of Personnel Management.
Katherine Archuleta,
Director.

[FR Doc. 2014-05279 Filed 3-10-14; 8:45 am]

BILLING CODE 6325-39-P